NATIONAL CREDIT UNION ADMINISTRATION

Notice of Sunshine Act Meeting

TIME AND DATE: 10:00 a.m., Thursday, July 13, 2000.

PLACE: Board Room, 7th Floor, Room 7047, 1775 Duke Street, Alexandria, VA 22314-3428.

STATUS: Open.

MATTERS TO BE CONSIDERED: 1. Request from Two (2) Federal Credit Unions to Convert to Community Charters.

2. Missouri Member Business Loan Rule.

3. Final Rule: Amendment to Section 701.21(c) (7) (ii) (C), NCUA's Rules and Regulations, Interest Rate Ceiling.

4. Final Rule: Amendments to Part 7802, NCUA's Rules and Regulations, Prompt Corrective Action—Risk-Based Net Worth Requirement.

5. NCUA Mid-Session Operating Budget.

RECESS: 11:15 a.m.

TIME AND DATE: 11:30 a.m., Thursday, July 13, 2000.

PLACE: Board Room, 7th Floor, Room 7047, 1775 Duke Street, Alexandria, VA 22314-3428.

STATUS: Closed.

MATTERS TO BE CONSIDERED: 1. Two (2) Administrative Actions under Section 206 for the Federal Credit Union Act. Closed pursuant to exemptions (6), (7), (8), (9) (A) (ii), (9) (B), and (10).

2. Two (2) Administrative Actions under Part 704 of NCUA's Rules and Regulations. Closed pursuant to exemption (8).

3. Two (2) Personnel Matters. Closed pursuant to exemptions (2) and (6).

FOR FURTHER INFORMATION CONTACT: Becky Baker, Secretary of the Board, Telephone 703-518-6304.

Becky Baker,
Secretary of the Board.

[FR Doc. 00-17599 Filed 7-7-7; 12:53 am]

BILLING CODE 7535-01-M